DEPARTMENT OF JUSTICE

Antitrust Division

Notice Pursuant to the National Cooperative Research and Production Act of 1993—Cooperative Research Group on HEDGE V

Notice is hereby given that, on June 22, 2021, pursuant to Section 6(a) of the National Cooperative Research and Production Act of 1993, 15 U.S.C. 4301 et seq. (“the Act”), Cooperative Research Group on HEDGE V (“HEDGE V”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Cummins, Inc., Columbus, IN; Convergent Science, Madison, WI; GM Global Technology Operations, LLC (GMGTO), Detroit, MI; Volkswagen Aktiengesellschaft, Wolfsburg, GERMANY; and Robert Bosch LLC, Farmington Hills, MI. The general area of HEDGE V's planned activity is to identify ICE technologies to achieve 50% brake thermal efficiency while maintaining a stoichiometric air/fuel ratio suitable for three-way catalyst operation. Other topics of interest to the consortium include: large-bore s.i. combustion systems; assisted pre-chambers; Hybrid-ICE focus including ICE design for hybrid application; engine geometry changes; advanced combustion modes, SACI & D-EGR, sCO2 as a cooling medium or WHR system; high-power and voltage systems including microwave enhanced heating, CO2 Separation Membrane for Octane-on-Demand, and on-board hydrogen generation for combustion enhancement.

Suzanne Morris,
Chief, Premerger and Division Statistics, Antitrust Division.

[FR Doc. 2021-17509 Filed 8-13-21; 8:45 am]

BILLING CODE P